DEPARTMENT OF TRANSPORTATION

Federal Aviation Administration

14 CFR Part 97

[Docket No. 30827; Amdt. No. 3465]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 16, 2012. The compliance date for each SIAP, associated Takeoff Minimums, and ODP is specified in the amendatory provisions.

The incorporation by reference of certain publications listed in the regulations is approved by the Director of the Federal Register as of February 16, 2012.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125), telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on February 3, 2012.
John McGraw,
Deputy Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33 and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

EFFECTIVE UPON PUBLICATION

AIRAC Date | State | City | Airport | FDC No. | FDC Date | Subject
8-Mar-12 | TX | Yoakum | Yoakum Muni | 1/5116 | 1/12/12 | NDB RWY 31, Amdt 3
8-Mar-12 | TX | Yoakum | Yoakum Muni | 1/5117 | 1/12/12 | RNAV (GPS) RWY 31, Orig-A
8-Mar-12 | NJ | Berlin | Camden County | 2/2036 | 1/24/12 | RNAV (GPS) RWY 5, Orig-A
8-Mar-12 | NE | Hastings | Hastings Muni | 2/2069 | 1/24/12 | RNAV (GPS) RWY 14, Orig
8-Mar-12 | IL | Chicago | Chicago O'Hare Intl | 2/2713 | 1/27/12 | ILS or LOC RWY 9L, ILS RWY 9L (CAT II), ILS RWY 9L (CAT III), Orig-C
8-Mar-12 | IL | Chicago | Chicago O'Hare Intl | 2/2714 | 1/27/12 | ILS or LOC RWY 10, ILS RWY 10 (CAT II), ILS RWY 10 (CAT III), Amdt 16A
8-Mar-12 | IL | Chicago | Chicago O'Hare Intl | 2/2715 | 1/27/12 | ILS or LOC RWY 14L, ILS RWY 14L (CAT II), ILS RWY 14L (CAT III), Amdt 29C
8-Mar-12 | IL | Chicago | Chicago O'Hare Intl | 2/2716 | 1/27/12 | ILS or LOC RWY 14R, ILS RWY 14R (CAT II), ILS RWY 14R (CAT III), Amdt 30B
8-Mar-12 | IL | Chicago | Chicago O'Hare Intl | 2/2717 | 1/27/12 | ILS or LOC RWY 27R, ILS RWY 27R (CAT II), ILS RWY 27R (CAT III), Orig-A
8-Mar-12 | IL | Chicago | Chicago O'Hare Intl | 2/2718 | 1/27/12 | ILS or LOC RWY 27L, ILS RWY 27L (CAT II), ILS RWY 27L (CAT III), Amdt 28A
8-Mar-12 | IL | Chicago | Chicago O'Hare Intl | 2/2719 | 1/27/12 | ILS or LOC RWY 28, ILS RWY 28 (CAT II), ILS RWY 28 (CAT III), Amdt 15A
8-Mar-12 | IN | Indianapolis | Indianapolis Intl | 2/2728 | 1/24/12 | ILS or LOC RWY 5R, ILS RWY 5R (CAT II), ILS RWY 5R (CATIII), Amdt 5A
8-Mar-12 | IN | Indianapolis | Indianapolis Intl | 2/2729 | 1/24/12 | ILS or LOC RWY 5L, ILS RWY 5L (CAT II), ILS RWY 5L (CAT III), Amdt 3B
8-Mar-12 | TX | Austin | Austin-Bergstrom Intl | 2/2730 | 1/24/12 | ILS or LOC RWY 17L, ILS RWY 17L (CAT II), ILS RWY 17L (CAT III), Amdt 1A
8-Mar-12 | OK | Tulsa | Tulsa Intl | 2/2731 | 1/25/12 | RNAV (GPS) RWY 18L, Amdt 1
8-Mar-12 | IL | Chicago | Chicago O'Hare Intl | 2/2749 | 1/27/12 | RNAV (GPS) RWY 10, Amdt 3A
8-Mar-12 | IN | Indianapolis | Indianapolis Intl | 2/2755 | 1/24/12 | RNAV (GPS) Y RWY 23L, Amdt 2
8-Mar-12 | IL | Chicago | Chicago O'Hare Intl | 2/2756 | 1/27/12 | RNAV (GPS) RWY 14R, Amdt 2
8-Mar-12 | TX | Austin | Austin-Bergstrom Intl | 2/2757 | 1/24/12 | ILS or LOC RWY 17R, Amdt 3A
8-Mar-12 | TX | Austin | Austin-Bergstrom Intl | 2/2762 | 1/24/12 | ILS or LOC RWY 35L, Amdt 4A
8-Mar-12 | IL | Chicago | Chicago O'Hare Intl | 2/2763 | 1/27/12 | RNAV (GPS) RWY 9R, Amdt 2
8-Mar-12 | OK | Tulsa | Tulsa Intl | 2/2764 | 1/25/12 | RNAV (RNP) Z RWY 18R, Orig-A
8-Mar-12 | TX | Dallas-Fort Worth | Dallas-Fort Worth Intl | 2/2765 | 1/24/12 | ILS or LOC RWY 18R, ILS RWY 18R (CAT II), ILS RWY 18R (CAT III), Amdt 7 A
8-Mar-12 | OK | Tulsa | Tulsa Intl | 2/2766 | 1/25/12 | ILS or LOC RWY 18R, Amdt 7A
8-Mar-12 | TX | Dallas-Fort Worth | Dallas-Fort Worth Intl | 2/2767 | 1/24/12 | ILS or LOC RWY 17C, ILS RWY 17C (CAT II), ILS RWY 17C (CAT III), Amdt 9A
8-Mar-12 | TX | Dallas-Fort Worth | Dallas-Fort Worth Intl | 2/2769 | 1/24/12 | ILS or LOC RWY 17L, ILS RWY 17L (CAT II), ILS RWY 17L (CAT III), Amdt 5C
8-Mar-12 | TX | Dallas-Fort Worth | Dallas-Fort Worth Intl | 2/2773 | 1/24/12 | ILS or LOC RWY 35C, ILS RWY 35C (CAT II), ILS RWY 35C (CAT III), Amdt 1A
8-Mar-12 | IN | Indianapolis | Indianapolis Intl | 2/2774 | 1/24/12 | RNAV (RNP) Z RWY 5R, Orig-A
8-Mar-12 | TX | Dallas-Fort Worth | Dallas-Fort Worth Intl | 2/2775 | 1/24/12 | ILS or LOC RWY 35R, ILS RWY 35R (CAT II), ILS RWY 35R (CAT III), Amdt 3A
8-Mar-12 | IN | Indianapolis | Indianapolis Intl | 2/2776 | 1/24/12 | RNAV (RNP) Z RWY 23R, Orig-B
8-Mar-12 | TX | Austin | Austin-Bergstrom Intl | 2/2777 | 1/24/12 | ILS or LOC RWY 35R, Amdt 1A
8-Mar-12 | IL | Chicago | Chicago O'Hare Intl | 2/2778 | 1/27/12 | RNAV (GPS) RWY 28, Amdt 2B
8-Mar-12 | IN | Indianapolis | Indianapolis Intl | 2/2779 | 1/24/12 | RNAV (RNP) Z RWY 5L, Orig-B
8-Mar-12 | IN | Indianapolis | Indianapolis Intl | 2/2782 | 1/24/12 | ILS or LOC RWY 23R, Amdt 3B
8-Mar-12 | OH | Columbus | Port Columbus Intl | 2/2785 | 1/24/12 | ILS or LOC RWY 10R, Amdt 8B
8-Mar-12 | IN | Indianapolis | Indianapolis Intl | 2/2787 | 1/24/12 | RNAV (GPS) Y RWY 5L, Amdt 2
8-Mar-12 | TX | Austin | Austin-Bergstrom Intl | 2/2788 | 1/24/12 | RNAV (GPS) RWY 17R, Orig
8-Mar-12 | IL | Chicago | Chicago O'Hare Intl | 2/2789 | 1/27/12 | ILS or LOC RWY 9R, Amdt 9A
8-Mar-12 | IL | Chicago | Chicago O'Hare Intl | 2/2794 | 1/27/12 | RNAV (GPS) RWY 27L, Amdt 2
8-Mar-12 | OH | Columbus | Port Columbus Intl | 2/2796 | 1/24/12 | RNAV (GPS) Y RWY 10R, Amdt 2
8-Mar-12 | OH | Columbus | Port Columbus Intl | 2/2798 | 1/24/12 | RNAV (RNP) Z RWY 10R, Orig-A
8-Mar-12 | OH | Columbus | Port Columbus Intl | 2/2801 | 1/24/12 | ILS or LOC RWY 28R, Amdt 3A
8-Mar-12 | OH | Columbus | Port Columbus Intl | 2/2803 | 1/24/12 | RNAV (GPS) Y RWY 28R, Amdt 1
8-Mar-12 | OH | Columbus | Port Columbus Intl | 2/2804 | 1/24/12 | ILS or LOC RWY 10L, Amdt 18A
8-Mar-12 | MN | Minneapolis | Minneapolis-St Paul Intl/Wold-Chamberlain | 2/2809 | 1/26/12 | RNAV (GPS) RWY 30R, Amdt 1A
8-Mar-12 | OH | Columbus | Port Columbus Intl | 2/2812 | 1/24/12 | RNAV (RNP) Z RWY 28R, Orig-A
8-Mar-12 | OK | Tulsa | Tulsa Intl | 2/2813 | 1/25/12 | RNAV (GPS) Y RWY 18R, Amdt 1A
8-Mar-12 | OK | Tulsa | Tulsa Intl | 2/2814 | 1/25/12 | ILS or LOC RWY 18L, Amdt 15A
8-Mar-12 | OH | Columbus | Port Columbus Intl | 2/2815 | 1/24/12 | ILS or LOC RWY 28L, Amdt 28A
8-Mar-12 | MN | Minneapolis | Minneapolis-St Paul Intl/Wold-Chamberlain | 2/2816 | 1/26/12 | CONVERGING ILS RWY 30R, Amdt 1
8-Mar-12 | OK | Tulsa | Tulsa Intl | 2/2817 | 1/25/12 | RNAV (GPS) RWY 36L, Orig-A
8-Mar-12 | MN | Minneapolis | Minneapolis-St Paul Intl/Wold-Chamberlain | 2/2819 | 1/26/12 | RNAV (GPS) RWY 30L, Amdt 2
8-Mar-12 | TX | Austin | Austin-Bergstrom Intl | 2/2820 | 1/24/12 | RNAV (GPS) RWY 35R, Orig
8-Mar-12 | IL | Chicago | Chicago O'Hare Intl | 2/2821 | 1/27/12 | ILS or LOC RWY 32R, Amdt 21D
8-Mar-12 | IL | Chicago | Chicago O'Hare Intl | 2/2824 | 1/27/12 | RNAV (GPS) RWY 27R, Orig
8-Mar-12 | TX | Austin | Austin-Bergstrom Intl | 2/2829 | 1/24/12 | RNAV (GPS) Z RWY 35L, Orig
8-Mar-12 | IL | Chicago | Chicago O'Hare Intl | 2/2838 | 1/27/12 | RNAV (GPS) RWY 14L, Amdt 1C
8-Mar-12 | IN | Indianapolis | Indianapolis Intl | 2/2841 | 1/24/12 | RNAV (GPS) Y RWY 5R, Amdt 2
8-Mar-12 | IN | Indianapolis | Indianapolis Intl | 2/2842 | 1/24/12 | RNAV (GPS) Y RWY 23R, Amdt 2
8-Mar-12 | IN | Indianapolis | Indianapolis Intl | 2/2843 | 1/24/12 | RNAV (RNP) Z RWY 23L, Orig-A
8-Mar-12 | IN | Indianapolis | Indianapolis Intl | 2/2845 | 1/24/12 | ILS or LOC RWY 23L, Amdt 5A
8-Mar-12 | IL | Chicago | Chicago O'Hare Intl | 2/2848 | 1/27/12 | RNAV (GPS) RWY 4R, Orig-C
8-Mar-12 | TX | Dallas-Fort Worth | Dallas-Fort Worth Intl | 2/2849 | 1/24/12 | RNAV (GPS) RWY 17R, Amdt 1
8-Mar-12 | IL | Chicago | Chicago O'Hare Intl | 2/2851 | 1/27/12 | RNAV (GPS) RWY 4L, Amdt 1B
8-Mar-12 | MN | Minneapolis | Minneapolis-St Paul Intl/Wold-Chamberlain | 2/2852 | 1/26/12 | RNAV (GPS) RWY 12L, Amdt 2
8-Mar-12 | MN | Minneapolis | Minneapolis-St Paul Intl/Wold-Chamberlain | 2/2853 | 1/26/12 | RNAV (GPS) RWY 12R, Amdt 1
8-Mar-12 | TX | Austin | Austin-Bergstrom Intl | 2/2855 | 1/24/12 | RNAV (GPS) RWY 17L, Orig
8-Mar-12 | MN | Minneapolis | Minneapolis-St Paul Intl/Wold-Chamberlain | 2/2856 | 1/26/12 | ILS or LOC RWY 30R, Amdt 13
8-Mar-12 | TX | Dallas-Fort Worth | Dallas-Fort Worth Intl | 2/2872 | 1/24/12 | ILS or LOC RWY 31R, Amdt 13A
8-Mar-12 | TX | Dallas-Fort Worth | Dallas-Fort Worth Intl | 2/2873 | 1/24/12 | ILS or LOC RWY 18L, Amdt 1A
8-Mar-12 | TX | Dallas-Fort Worth | Dallas-Fort Worth Intl | 2/2876 | 1/24/12 | RNAV (GPS) RWY 18L, Orig
8-Mar-12 | TX | Dallas-Fort Worth | Dallas-Fort Worth Intl | 2/2877 | 1/24/12 | RNAV (GPS) RWY 35R, Amdt 2A
8-Mar-12 | TX | Dallas-Fort Worth | Dallas-Fort Worth Intl | 2/2879 | 1/24/12 | RNAV (GPS) RWY 35C, Amdt 2
8-Mar-12 | TX | Dallas-Fort Worth | Dallas-Fort Worth Intl | 2/2880 | 1/24/12 | ILS or LOC RWY 17R, Amdt 22A
8-Mar-12 | TX | Dallas-Fort Worth | Dallas-Fort Worth Intl | 2/2881 | 1/24/12 | RNAV (GPS) RWY 18R, Orig
8-Mar-12 | TX | Dallas-Fort Worth | Dallas-Fort Worth Intl | 2/2882 | 1/24/12 | RNAV (GPS) RWY 36L, Amdt 2
8-Mar-12 | TX | Dallas-Fort Worth | Dallas-Fort Worth Intl | 2/2883 | 1/24/12 | RNAV (GPS) Y RWY 13R, Amdt 1A
8-Mar-12 | TX | Dallas-Fort Worth | Dallas-Fort Worth Intl | 2/2884 | 1/24/12 | RNAV (GPS) RWY 17L, Amdt 3A
8-Mar-12 | TX | Dallas-Fort Worth | Dallas-Fort Worth Intl | 2/2885 | 1/24/12 | RNAV (GPS) RWY 17C, Amdt 1
8-Mar-12 | TX | Dallas-Fort Worth | Dallas-Fort Worth Intl | 2/2886 | 1/24/12 | ILS or LOC RWY 36R, Amdt 4A
8-Mar-12 | TX | Dallas-Fort Worth | Dallas-Fort Worth Intl | 2/2887 | 1/24/12 | RNAV (GPS) RWY 36R, Amdt 2
8-Mar-12 | TX | Dallas-Fort Worth | Dallas-Fort Worth Intl | 2/2888 | 1/24/12 | ILS or LOC RWY 35L, Amdt 4A
8-Mar-12 | TX | Dallas-Fort Worth | Dallas-Fort Worth Intl | 2/2889 | 1/24/12 | ILS or LOC RWY 36L, Amdt 1A
8-Mar-12 | TX | Dallas-Fort Worth | Dallas-Fort Worth Intl | 2/2890 | 1/24/12 | RNAV (GPS) RWY 35L, Amdt 1
8-Mar-12 | NC | Charlotte | Charlotte/Douglas Intl | 2/2923 | 1/27/12 | ILS or LOC RWY 18L, Amdt 7
8-Mar-12 | NC | Charlotte | Charlotte/Douglas Intl | 2/2924 | 1/27/12 | RNAV (RNP) Z RWY 18L, Orig-A
8-Mar-12 | NC | Charlotte | Charlotte/Douglas Intl | 2/2925 | 1/27/12 | ILS RWY 18R (CAT II), Orig
8-Mar-12 | NC | Charlotte | Charlotte/Douglas Intl | 2/2926 | 1/27/12 | ILS RWY 18R (CAT III), Orig
8-Mar-12 | NC | Charlotte | Charlotte/Douglas Intl | 2/2927 | 1/27/12 | RNAV (GPS) Y RWY 18R, Orig
8-Mar-12 | NC | Charlotte | Charlotte/Douglas Intl | 2/2928 | 1/27/12 | RNAV (RNP) Z RWY 18R, Orig-A
8-Mar-12 | NC | Charlotte | Charlotte/Douglas Intl | 2/2929 | 1/27/12 | ILS or LOC RWY 36L, Orig
8-Mar-12 | NC | Charlotte | Charlotte/Douglas Intl | 2/2930 | 1/27/12 | RNAV (GPS) Y RWY 36L, Orig
8-Mar-12 | NC | Charlotte | Charlotte/Douglas Intl | 2/2931 | 1/27/12 | RNAV (GPS) Y RWY 36R, Amdt 3
8-Mar-12 | NC | Charlotte | Charlotte/Douglas Intl | 2/2932 | 1/27/12 | ILS or LOC RWY 36R, Amdt 11
8-Mar-12 | NC | Charlotte | Charlotte/Douglas Intl | 2/2935 | 1/27/12 | ILS RWY 36L (CAT II), Orig
8-Mar-12 | NC | Charlotte | Charlotte/Douglas Intl | 2/2936 | 1/27/12 | RNAV (RNP) Z RWY 36L, Orig-A
8-Mar-12 | NC | Charlotte | Charlotte/Douglas Intl | 2/2937 | 1/27/12 | RNAV (RNP) Z RWY 36R, Orig-A
8-Mar-12 | NC | Charlotte | Charlotte/Douglas Intl | 2/2938 | 1/27/12 | ILS RWY 36R (CAT II), Amdt 11
8-Mar-12 | NC | Charlotte | Charlotte/Douglas Intl | 2/2939 | 1/27/12 | RNAV (GPS) Y RWY 18L, Amdt 3
8-Mar-12 | NC | Charlotte | Charlotte/Douglas Intl | 2/2940 | 1/27/12 | ILS or LOC RWY 18R, Orig
8-Mar-12 | NC | Charlotte | Charlotte/Douglas Intl | 2/2944 | 1/27/12 | ILS RWY 36L (CAT III), Orig
8-Mar-12 | NC | Charlotte | Charlotte/Douglas Intl | 2/2945 | 1/27/12 | ILS RWY 36R (CAT III), Amdt 11
8-Mar-12 | AL | Huntsville | Huntsville Intl-Carl T Jones Field | 2/2988 | 1/25/12 | ILS or LOC RWY 36R, Amdt 2
8-Mar-12 | AL | Huntsville | Huntsville Intl-Carl T Jones Field | 2/2989 | 1/25/12 | RNAV (GPS) RWY 36R, Amdt 1
8-Mar-12 | AL | Huntsville | Huntsville Intl-Carl T Jones Field | 2/2990 | 1/25/12 | ILS or LOC RWY 18L, Amdt 4A
8-Mar-12 | AL | Huntsville | Huntsville Intl-Carl T Jones Field | 2/2991 | 1/25/12 | RNAV (GPS) RWY 18L, Amdt 1
8-Mar-12 | AL | Huntsville | Huntsville Intl-Carl T Jones Field | 2/2992 | 1/25/12 | ILS or LOC RWY 18R, Amdt 24A
8-Mar-12 | AL | Huntsville | Huntsville Intl-Carl T Jones Field | 2/2993 | 1/25/12 | ILS RWY 18R (CAT II), Amdt 24A
8-Mar-12 | AL | Huntsville | Huntsville Intl-Carl T Jones Field | 2/2994 | 1/25/12 | ILS or LOC RWY 36L, Amdt 10
8-Mar-12 | AL | Huntsville | Huntsville Intl-Carl T Jones Field | 2/2995 | 1/25/12 | RNAV (GPS) RWY 36L, Amdt 1
8-Mar-12 | DC | Washington | Washington Dulles Intl | 2/2996 | 1/26/12 | RNAV (GPS) RWY 1L, Orig-A
8-Mar-12 | DC | Washington | Washington Dulles Intl | 2/2997 | 1/26/12 | ILS RWY 19C (CAT III), Amdt 25
8-Mar-12 | DC | Washington | Washington Dulles Intl | 2/3000 | 1/26/12 | RNAV (GPS) Y RWY 19C, Amdt 3A
8-Mar-12 | DC | Washington | Washington Dulles Intl | 2/3001 | 1/26/12 | RNAV (GPS) Y RWY 19L, Amdt 2
8-Mar-12 | DC | Washington | Washington Dulles Intl | 2/3002 | 2/1/12 | ILS or LOC/DME RWY 19R, Amdt 1
8-Mar-12 | DC | Washington | Washington Dulles Intl | 2/3003 | 1/26/12 | ILS RWY 19R (CAT II), Amdt 1
8-Mar-12 | DC | Washington | Washington Dulles Intl | 2/3004 | 1/26/12 | ILS RWY 1L (CAT II), Amdt 1
8-Mar-12 | MN | Minneapolis | Minneapolis-St Paul Intl/Wold-Chamberlain | 2/3005 | 1/26/12 | ILS or LOC RWY 12R, ILS RWY 12R (CAT II), ILS RWY 12R (CAT III), Amdt 9
8-Mar-12 | DC | Washington | Washington Dulles Intl | 2/3006 | 1/26/12 | ILS RWY 1L (CAT III), Amdt 1
8-Mar-12 | DC | Washington | Washington Dulles Intl | 2/3007 | 1/26/12 | ILS or LOC/DME RWY 19C, Amdt 25
8-Mar-12 | DC | Washington | Washington Dulles Intl | 2/3009 | 2/1/12 | ILS or LOC/DME RWY 1L, Amdt 1
8-Mar-12 | DC | Washington | Washington Dulles Intl | 2/3010 | 1/26/12 | RNAV (GPS) Y RWY 1R, Amdt 1A
8-Mar-12 | DC | Washington | Washington Dulles Intl | 2/3011 | 1/26/12 | RNAV (RNP) Z RWY 1R, Orig-C
8-Mar-12 | DC | Washington | Washington Dulles Intl | 2/3012 | 1/26/12 | ILS RWY 19C (CAT II), Amdt 25
8-Mar-12 | DC | Washington | Washington Dulles Intl | 2/3013 | 1/26/12 | RNAV (RNP) Z RWY 19C, Orig-C
8-Mar-12 | DC | Washington | Washington Dulles Intl | 2/3014 | 1/26/12 | ILS RWY 19R (CAT III), Amdt 1
8-Mar-12 | DC | Washington | Washington Dulles Intl | 2/3015 | 1/26/12 | RNAV (GPS) RWY 19R, Orig
8-Mar-12 | DC | Washington | Washington Dulles Intl | 2/3016 | 2/1/12 | ILS or LOC RWY 19L, Amdt 15
8-Mar-12 | DC | Washington | Washington Dulles Intl | 2/3017 | 1/26/12 | RNAV (RNP) Z RWY 19L, Orig-B
8-Mar-12 | DC | Washington | Washington Dulles Intl | 2/3018 | 1/26/12 | ILS or LOC/DME RWY 1C, Amdt 2
8-Mar-12 | DC | Washington | Washington Dulles Intl | 2/3019 | 1/26/12 | ILS RWY 1C (CAT II), Amdt 2
8-Mar-12 | DC | Washington | Washington Dulles Intl | 2/3020 | 1/26/12 | RNAV (GPS) Y RWY 1C, Amdt 1
8-Mar-12 | MN | Minneapolis | Minneapolis-St Paul Intl/Wold-Chamberlain | 2/3021 | 1/26/12 | ILS or LOC RWY 12L, ILS RWY 12L (CAT II), ILS RWY 12L (CAT III), Amdt 8
8-Mar-12 | GA | Atlanta | Hartsfield-Jackson Atlanta Intl | 2/3023 | 1/25/12 | ILS or LOC RWY 8L, Amdt 3B
8-Mar-12 | GA | Atlanta | Hartsfield-Jackson Atlanta Intl | 2/3034 | 1/25/12 | ILS or LOC RWY 8R, Amdt 59B
8-Mar-12 | GA | Atlanta | Hartsfield-Jackson Atlanta Intl | 2/3035 | 1/25/12 | ILS or LOC RWY 9L, Amdt 8B
8-Mar-12 | GA | Atlanta | Hartsfield-Jackson Atlanta Intl | 2/3038 | 1/25/12 | RNAV (RNP) Z RWY 8L, Orig-B
8-Mar-12 | GA | Atlanta | Hartsfield-Jackson Atlanta Intl | 2/3039 | 1/25/12 | RNAV (RNP) Z RWY 8R, Orig-B
8-Mar-12 | GA | Atlanta | Hartsfield-Jackson Atlanta Intl | 2/3040 | 1/25/12 | RNAV (GPS) Y RWY 27L, Amdt 3
8-Mar-12 | GA | Atlanta | Hartsfield-Jackson Atlanta Intl | 2/3041 | 1/25/12 | RNAV (GPS) Y RWY 9L, Amdt 2
8-Mar-12 | GA | Atlanta | Hartsfield-Jackson Atlanta Intl | 2/3042 | 1/25/12 | RNAV (GPS) Y RWY 27R, Amdt 2
8-Mar-12 | GA | Atlanta | Hartsfield-Jackson Atlanta Intl | 2/3043 | 1/25/12 | RNAV (RNP) Z RWY 9L, Orig-B
8-Mar-12 | GA | Atlanta | Hartsfield-Jackson Atlanta Intl | 2/3044 | 1/25/12 | RNAV (RNP) Z RWY 27R, Orig-B
8-Mar-12 | GA | Atlanta | Hartsfield-Jackson Atlanta Intl | 2/3045 | 2/1/12 | ILS or LOC RWY 26L, Amdt 19B
8-Mar-12 | GA | Atlanta | Hartsfield-Jackson Atlanta Intl | 2/3046 | 1/25/12 | ILS or LOC RWY 10, Amdt 2
8-Mar-12 | GA | Atlanta | Hartsfield-Jackson Atlanta Intl | 2/3047 | 1/25/12 | ILS or LOC RWY 28, Amdt 2
8-Mar-12 | GA | Atlanta | Hartsfield-Jackson Atlanta Intl | 2/3048 | 1/25/12 | RNAV (GPS) Y RWY 8R, Amdt 2
8-Mar-12 | GA | Atlanta | Hartsfield-Jackson Atlanta Intl | 2/3049 | 1/25/12 | RNAV (GPS) Y RWY 26R, Amdt 2
8-Mar-12 | GA | Atlanta | Hartsfield-Jackson Atlanta Intl | 2/3050 | 1/25/12 | RNAV (RNP) Z RWY 28, Amdt 1
8-Mar-12 | GA | Atlanta | Hartsfield-Jackson Atlanta Intl | 2/3051 | 1/25/12 | ILS or LOC RWY 26R, Amdt 5
8-Mar-12 | GA | Atlanta | Hartsfield-Jackson Atlanta Intl | 2/3052 | 2/1/12 | RNAV (GPS) Y RWY 28, Amdt 2
8-Mar-12 | GA | Atlanta | Hartsfield-Jackson Atlanta Intl | 2/3053 | 1/25/12 | RNAV (GPS) Y RWY 26L, Amdt 2
8-Mar-12 | GA | Atlanta | Hartsfield-Jackson Atlanta Intl | 2/3054 | 1/25/12 | RNAV (GPS) Y RWY 8L, Amdt 2
8-Mar-12 | GA | Atlanta | Hartsfield-Jackson Atlanta Intl | 2/3055 | 1/25/12 | RNAV (GPS) Y RWY 9R, Amdt 2
8-Mar-12 | GA | Atlanta | Hartsfield-Jackson Atlanta Intl | 2/3056 | 1/25/12 | RNAV (RNP) Z RWY 26R, Orig-B
8-Mar-12 | GA | Atlanta | Hartsfield-Jackson Atlanta Intl | 2/3057 | 1/25/12 | ILS or LOC RWY 9R, Amdt 17B
8-Mar-12 | GA | Atlanta | Hartsfield-Jackson Atlanta Intl | 2/3058 | 1/25/12 | RNAV (GPS) Y RWY 10, Amdt 2
8-Mar-12 | GA | Atlanta | Hartsfield-Jackson Atlanta Intl | 2/3059 | 1/25/12 | RNAV (RNP) Z RWY 10, Amdt 1
8-Mar-12 | GA | Atlanta | Hartsfield-Jackson Atlanta Intl | 2/3060 | 1/25/12 | ILS RWY 8L (CAT II), Amdt 3B
8-Mar-12 | GA | Atlanta | Hartsfield-Jackson Atlanta Intl | 2/3061 | 1/25/12 | RNAV (RNP) Z RWY 9R, Orig-B
8-Mar-12 | GA | Atlanta | Hartsfield-Jackson Atlanta Intl | 2/3062 | 2/1/12 | RNAV (RNP) Z RWY 27L, Amdt 1A
8-Mar-12 | GA | Atlanta | Hartsfield-Jackson Atlanta Intl | 2/3064 | 1/25/12 | ILS RWY 26R (CAT II), Amdt 5
8-Mar-12 | GA | Atlanta | Hartsfield-Jackson Atlanta Intl | 2/3065 | 1/25/12 | ILS RWY 9R (CAT II), Amdt 17B
8-Mar-12 | GA | Atlanta | Hartsfield-Jackson Atlanta Intl | 2/3066 | 1/25/12 | ILS RWY 8L (CAT III), Amdt 3B
8-Mar-12 | GA | Atlanta | Hartsfield-Jackson Atlanta Intl | 2/3067 | 1/25/12 | ILS RWY 9R (CAT III), Amdt 17B
8-Mar-12 | NY | New York | John F Kennedy Intl | 2/3068 | 1/25/12 | ILS or LOC RWY 31L, Amdt 10B
8-Mar-12 | NY | New York | John F Kennedy Intl | 2/3070 | 1/25/12 | ILS or LOC RWY 31R, Amdt 15A
8-Mar-12 | GA | Atlanta | Hartsfield-Jackson Atlanta Intl | 2/3071 | 1/25/12 | RNAV (RNP) Z RWY 26L, Orig-B
8-Mar-12 | NY | New York | John F Kennedy Intl | 2/3072 | 1/25/12 | RNAV (GPS) Y RWY 22L, Amdt 1B
8-Mar-12 | NY | New York | John F Kennedy Intl | 2/3073 | 1/25/12 | ILS RWY 22L (CAT III), Amdt 24A
8-Mar-12 | NY | New York | John F Kennedy Intl | 2/3074 | 1/25/12 | ILS RWY 22R, Amdt 2
8-Mar-12 | NY | New York | John F Kennedy Intl | 2/3075 | 1/25/12 | ILS or LOC RWY 22L, Amdt 24A
8-Mar-12 | NY | New York | John F Kennedy Intl | 2/3076 | 1/25/12 | RNAV (RNP) Z RWY 22L, Orig-A
8-Mar-12 | NY | New York | John F Kennedy Intl | 2/3077 | 1/25/12 | RNAV (GPS) RWY 22R, Amdt 1
8-Mar-12 | NY | New York | John F Kennedy Intl | 2/3089 | 1/25/12 | ILS RWY 22L (CAT II), Amdt 24A
8-Mar-12 | NC | Raleigh/Durham | Raleigh-Durham Intl | 2/3142 | 1/26/12 | ILS or LOC RWY 23L, Amdt 8
8-Mar-12 | NC | Raleigh/Durham | Raleigh-Durham Intl | 2/3143 | 1/26/12 | RNAV (GPS) Y RWY 23L, Amdt 1
8-Mar-12 | NC | Raleigh/Durham | Raleigh-Durham Intl | 2/3144 | 1/26/12 | RNAV (RNP) Z RWY 23L, Amdt 1A
8-Mar-12 | NC | Raleigh/Durham | Raleigh-Durham Intl | 2/3145 | 1/26/12 | RNAV (RNP) Z RWY 5L, Amdt 1A
8-Mar-12 | NC | Raleigh/Durham | Raleigh-Durham Intl | 2/3146 | 1/26/12 | ILS or LOC RWY 23R, Amdt 11A
8-Mar-12 | NC | Raleigh/Durham | Raleigh-Durham Intl | 2/3147 | 1/26/12 | ILS or LOC RWY 5L, Amdt 5
8-Mar-12 | NC | Raleigh/Durham | Raleigh-Durham Intl | 2/3148 | 1/26/12 | RNAV (GPS) Y RWY 5L, Amdt 1
8-Mar-12 | NC | Raleigh/Durham | Raleigh-Durham Intl | 2/3149 | 1/26/12 | ILS or LOC RWY 5R, Amdt 27
8-Mar-12 | NC | Raleigh/Durham | Raleigh-Durham Intl | 2/3150 | 1/26/12 | RNAV (GPS) Y RWY 5R, Amdt 1
8-Mar-12 | NC | Raleigh/Durham | Raleigh-Durham Intl | 2/3151 | 1/26/12 | ILS RWY 23R (CAT II), Amdt 11A
8-Mar-12 | NC | Raleigh/Durham | Raleigh-Durham Intl | 2/3152 | 1/26/12 | ILS RWY 23R (CAT III), Amdt 11A
8-Mar-12 | NC | Raleigh/Durham | Raleigh-Durham Intl | 2/3153 | 1/26/12 | RNAV (GPS) Y RWY 23R, Amdt 1
8-Mar-12 | NC | Raleigh/Durham | Raleigh-Durham Intl | 2/3155 | 1/26/12 | RNAV (RNP) Z RWY 23R, Amdt 1A
8-Mar-12 | NC | Raleigh/Durham | Raleigh-Durham Intl | 2/3160 | 1/26/12 | RNAV (RNP) Z RWY 5R, Amdt 1A
8-Mar-12 | NC | Greensboro | Piedmont Triad Intl | 2/3175 | 1/25/12 | ILS RWY 23L (CAT II), Amdt 9A
8-Mar-12 | NC | Greensboro | Piedmont Triad Intl | 2/3176 | 1/25/12 | RNAV (GPS) RWY 5R, Amdt 2A
8-Mar-12 | NC | Greensboro | Piedmont Triad Intl | 2/3177 | 1/25/12 | ILS or LOC RWY 23L, Amdt 9A
8-Mar-12 | NC | Greensboro | Piedmont Triad Intl | 2/3178 | 1/25/12 | RNAV (GPS) RWY 23L, Amdt 2A
8-Mar-12 | WA | Seattle | Seattle-Tacoma Intl | 2/3231 | 1/17/12 | ILS RWY 16R (CAT III), Amdt 1
8-Mar-12 | WA | Seattle | Seattle-Tacoma Intl | 2/3232 | 1/17/12 | RNAV (GPS) RWY 16C, Amdt 1B
8-Mar-12 | WA | Seattle | Seattle-Tacoma Intl | 2/3233 | 1/17/12 | ILS or LOC RWY 16L, Amdt 4A
8-Mar-12 | WA | Seattle | Seattle-Tacoma Intl | 2/3234 | 1/17/12 | ILS or LOC RWY 16R, Amdt 1
8-Mar-12 | WA | Seattle | Seattle-Tacoma Intl | 2/3235 | 1/17/12 | ILS RWY 16R (SA CAT I), Amdt 1
8-Mar-12 | WA | Seattle | Seattle-Tacoma Intl | 2/3236 | 1/17/12 | ILS RWY 16R (CAT II), Amdt 1
8-Mar-12 | WA | Seattle | Seattle-Tacoma Intl | 2/3237 | 1/17/12 | ILS or LOC RWY 16C, Amdt 13A
8-Mar-12 | WA | Seattle | Seattle-Tacoma Intl | 2/3238 | 1/17/12 | ILS RWY 16C (CAT II), Amdt 13A
8-Mar-12 | WA | Seattle | Seattle-Tacoma Intl | 2/3239 | 1/17/12 | ILS RWY 16L (CAT II), Amdt 4A
8-Mar-12 | WA | Seattle | Seattle-Tacoma Intl | 2/3240 | 1/17/12 | ILS RWY 16C (CAT III), Amdt 13A
8-Mar-12 | WA | Seattle | Seattle-Tacoma Intl | 2/3241 | 1/17/12 | ILS RWY 16L (CAT III), Amdt 4A
8-Mar-12 | WA | Seattle | Seattle-Tacoma Intl | 2/3242 | 1/17/12 | RNAV (GPS) RWY 16L, Amdt 2B
8-Mar-12 | UT | Salt Lake City | Salt Lake City Intl | 2/3243 | 1/26/12 | ILS RWY 34L (CAT III), Amdt 2
8-Mar-12 | UT | Salt Lake City | Salt Lake City Intl | 2/3244 | 1/26/12 | ILS or LOC RWY 34R, Amdt 3
8-Mar-12 | UT | Salt Lake City | Salt Lake City Intl | 2/3245 | 1/26/12 | ILS RWY 16L (CAT III), Amdt 3
8-Mar-12 | UT | Salt Lake City | Salt Lake City Intl | 2/3246 | 1/26/12 | ILS or LOC/DME RWY 35, Amdt 3
8-Mar-12 | UT | Salt Lake City | Salt Lake City Intl | 2/3250 | 1/26/12 | ILS or LOC RWY 17, Amdt 13
8-Mar-12 | CA | Los Angeles | Los Angeles Intl | 2/3251 | 1/27/12 | RNAV (RNP) Z RWY 6R, Orig-A
8-Mar-12 | CA | Los Angeles | Los Angeles Intl | 2/3252 | 1/27/12 | ILS or LOC RWY 6R, Amdt 17A
8-Mar-12 | UT | Salt Lake City | Salt Lake City Intl | 2/3253 | 1/26/12 | ILS RWY 17 (SA CAT II), Amdt 13
8-Mar-12 | UT | Salt Lake City | Salt Lake City Intl | 2/3254 | 1/26/12 | ILS RWY 16R (CAT III), Amdt 3
8-Mar-12 | UT | Salt Lake City | Salt Lake City Intl | 2/3256 | 1/26/12 | ILS or LOC RWY 34L, Amdt 2
8-Mar-12 | UT | Salt Lake City | Salt Lake City Intl | 2/3257 | 1/26/12 | ILS or LOC RWY 16R, Amdt 3
8-Mar-12 | UT | Salt Lake City | Salt Lake City Intl | 2/3258 | 1/26/12 | ILS or LOC RWY 16L, Amdt 3
8-Mar-12 | UT | Salt Lake City | Salt Lake City Intl | 2/3259 | 1/26/12 | ILS RWY 16R (CAT II), Amdt 3
8-Mar-12 | CA | Los Angeles | Los Angeles Intl | 2/3260 | 1/27/12 | RNAV (GPS) Y RWY 6R, Amdt 1A
8-Mar-12 | CA | Los Angeles | Los Angeles Intl | 2/3261 | 1/27/12 | RNAV (RNP) Z RWY 7R, Orig-A
8-Mar-12 | UT | Salt Lake City | Salt Lake City Intl | 2/3263 | 1/26/12 | ILS RWY 34R (CAT II), Amdt 3
8-Mar-12 | UT | Salt Lake City | Salt Lake City Intl | 2/3264 | 1/26/12 | ILS RWY 34L (CAT II), Amdt 2
8-Mar-12 | UT | Salt Lake City | Salt Lake City Intl | 2/3265 | 1/26/12 | ILS RWY 16L (CAT II), Amdt 3
8-Mar-12 | UT | Salt Lake City | Salt Lake City Intl | 2/3266 | 1/26/12 | ILS RWY 34R (CAT III), Amdt 3
8-Mar-12 | CA | Los Angeles | Los Angeles Intl | 2/3267 | 1/27/12 | RNAV (RNP) Z RWY 7L, Orig-A
8-Mar-12 | CA | Los Angeles | Los Angeles Intl | 2/3268 | 1/27/12 | ILS or LOC RWY 7L, Amdt 7A
8-Mar-12 | CA | Los Angeles | Los Angeles Intl | 2/3269 | 1/27/12 | RNAV (RNP) Z RWY 6L, Orig-A
8-Mar-12 | UT | Salt Lake City | Salt Lake City Intl | 2/3270 | 1/26/12 | RNAV (GPS) RWY 34R, Orig-A
8-Mar-12 | CA | Los Angeles | Los Angeles Intl | 2/3271 | 1/27/12 | RNAV (GPS) Y RWY 7R, Amdt 2A
8-Mar-12 | CA | Los Angeles | Los Angeles Intl | 2/3272 | 1/27/12 | RNAV (GPS) Y RWY 7L, Amdt 2A
8-Mar-12 | CA | Los Angeles | Los Angeles Intl | 2/3273 | 1/27/12 | RNAV (GPS) Y RWY 6L, Amdt 1A
8-Mar-12 | UT | Salt Lake City | Salt Lake City Intl | 2/3274 | 1/26/12 | ILS RWY 34R (SA CAT I), Amdt 3
8-Mar-12 | CA | Los Angeles | Los Angeles Intl | 2/3275 | 1/27/12 | ILS or LOC RWY 7R, Amdt 6B
8-Mar-12 | CA | Los Angeles | Los Angeles Intl | 2/3276 | 1/27/12 | ILS or LOC RWY 6L, Amdt 12A
8-Mar-12 | CO | Colorado Springs | City of Colorado Springs Muni | 2/3277 | 1/27/12 | ILS RWY 17L (SA CAT I), Amdt 1
8-Mar-12 | CO | Colorado Springs | City of Colorado Springs Muni | 2/3278 | 1/27/12 | RNAV (GPS) Y RWY 17R, Amdt 2
8-Mar-12 | CO | Colorado Springs | City of Colorado Springs Muni | 2/3279 | 1/27/12 | ILS or LOC RWY 17L, Amdt 1
8-Mar-12 | CO | Colorado Springs | City of Colorado Springs Muni | 2/3282 | 1/27/12 | RNAV (RNP) Z RWY 17R, Orig-B
8-Mar-12 | OR | Portland | Portland Intl | 2/3291 | 1/17/12 | ILS or LOC RWY 10L, Amdt 3B
8-Mar-12 | OR | Portland | Portland Intl | 2/3294 | 1/17/12 | RNAV (GPS) RWY 10L, Amdt 1
8-Mar-12 | OR | Portland | Portland Intl | 2/3297 | 1/17/12 | RNAV (GPS ) RWY 28L, Amdt 1
8-Mar-12 | OR | Portland | Portland Intl | 2/3298 | 1/17/12 | RNAV (GPS) RWY 10R, Amdt 1
8-Mar-12 | OR | Portland | Portland Intl | 2/3299 | 1/17/12 | RNAV (GPS) RWY 28R, Amdt 1
8-Mar-12 | OR | Portland | Portland Intl | 2/3300 | 1/17/12 | ILS or LOC RWY 28R, Amdt 14
8-Mar-12 | AL | Montgomery | Montgomery Rgnl | 2/3308 | 1/24/12 | ILS or LOC RWY 28, Amdt 10
8-Mar-12 | AL | Gadsden | Northeast Alabama Rgnl | 2/3309 | 1/24/12 | RNAV (GPS) RWY 6, Amdt 1
8-Mar-12 | NC | Mount Airy | Mount Airy/Surry County | 2/3310 | 1/24/12 | NDB RWY 36, Orig-B
8-Mar-12 | OR | Portland | Portland Intl | 2/3327 | 1/17/12 | ILS or LOC RWY 28L, Amdt 2
8-Mar-12 | AZ | Phoenix | Phoenix Sky Harbor Intl | 2/3364 | 1/26/12 | RNAV (RNP) Z RWY 25L, Orig-B
8-Mar-12 | AZ | Phoenix | Phoenix Sky Harbor Intl | 2/3366 | 1/26/12 | RNAV (GPS) Y RWY 26, Amdt 2
8-Mar-12 | AZ | Phoenix | Phoenix Sky Harbor Intl | 2/3367 | 1/26/12 | RNAV (GPS) Y RWY 25L, Amdt 1
8-Mar-12 | AZ | Phoenix | Phoenix Sky Harbor Intl | 2/3368 | 1/26/12 | RNAV (GPS) Y RWY 25R, Amdt 2A
8-Mar-12 | AZ | Phoenix | Phoenix Sky Harbor Intl | 2/3369 | 1/26/12 | ILS or LOC RWY 8, Orig-B
8-Mar-12 | AZ | Phoenix | Phoenix Sky Harbor Intl | 2/3370 | 1/26/12 | RNAV (RNP) Z RWY 25R, Orig-B
8-Mar-12 | AZ | Phoenix | Phoenix Sky Harbor Intl | 2/3371 | 1/26/12 | RNAV (RNP) Z RWY 7R, Orig-B
8-Mar-12 | AZ | Phoenix | Phoenix Sky Harbor Intl | 2/3372 | 1/26/12 | RNAV (RNP) Z RWY 26, Orig-B
8-Mar-12 | AZ | Phoenix | Phoenix Sky Harbor Intl | 2/3373 | 1/26/12 | ILS or LOC RWY 26, Orig-C
8-Mar-12 | AZ | Phoenix | Phoenix Sky Harbor Intl | 2/3374 | 1/26/12 | RNAV (RNP) Z RWY 7L, Orig-B
8-Mar-12 | AZ | Phoenix | Phoenix Sky Harbor Intl | 2/3377 | 1/26/12 | RNAV (GPS) Y RWY 7L, Amdt 1
8-Mar-12 | TX | Dallas-Fort Worth | Dallas-Fort Worth Intl | 2/3537 | 1/24/12 | RNAV (RNP) Z RWY 13R, Orig-D
8-Mar-12 | NY | Montgomery | Orange County | 2/3637 | 1/24/12 | ILS or LOC RWY 3, Amdt 3B
8-Mar-12 | TX | Dallas-Fort Worth | Dallas-Fort Worth Intl | 2/3718 | 1/24/12 | ILS or LOC RWY 13R, Amdt 8
8-Mar-12 | MI | Kalamazoo | Kalamazoo/Battle Creek Intl | 2/3973 | 1/24/12 | RADAR-1, Amdt 9
8-Mar-12 | MI | Kalamazoo | Kalamazoo/Battle Creek Intl | 2/3974 | 1/24/12 | RNAV (GPS) RWY 35, Orig
8-Mar-12 | DC | Washington | Washington Dulles Intl | 2/4178 | 1/26/12 | ILS or LOC RWY 1R, Amdt 24
8-Mar-12 | GA | Atlanta | Hartsfield-Jackson Atlanta Intl | 2/4185 | 1/25/12 | ILS or LOC RWY 27R, Amdt 4A
8-Mar-12 | GA | Atlanta | Hartsfield-Jackson Atlanta Intl | 2/4188 | 1/25/12 | ILS or LOC RWY 27L, Amdt 16B
8-Mar-12 | GA | Atlanta | Hartsfield-Jackson Atlanta Intl | 2/4192 | 1/25/12 | ILS RWY 27L (CAT II), Amdt 16B
8-Mar-12 | OR | Portland | Portland Intl | 2/5028 | 1/24/12 | ILS RWY 10R (CAT III), Amdt 34
8-Mar-12 | OR | Portland | Portland Intl | 2/5029 | 1/24/12 | ILS RWY 10R (CAT II), Amdt 34
8-Mar-12 | OR | Portland | Portland Intl | 2/5030 | 1/24/12 | ILS or LOC RWY 10R, Amdt 34
8-Mar-12 | OR | Portland | Portland Intl | 2/5031 | 1/24/12 | ILS RWY 10R (SA CAT I), Amdt 34
8-Mar-12 | AZ | Phoenix | Phoenix Sky Harbor Intl | 2/5642 | 1/27/12 | RNAV (GPS) Y RWY 7R, Amdt 1

[FR Doc. 2012-3376 Filed 2-15-12; 8:45 am]

BILLING CODE 4910-13-P